DEPARTMENT OF ENERGY

[Case No. CAC-022]

Energy Conservation Program for Consumer Products: Decision and Order Granting a Waiver to Hallowell International (Hallowell) From the Department of Energy Residential Central Air Conditioner and Heat Pump Test Procedures

AGENCY: Office of Energy Efficiency and Renewable Energy, Department of Energy.

ACTION: Decision and order.

SUMMARY: This notice publishes the U.S. Department of Energy's (DOE) decision and order in Case No. CAC-022. DOE grants a waiver to Hallowell from the existing DOE test procedure applicable to residential central air conditioners and heat pumps. The waiver pertains to Hallowell's boosted compression heat pumps, a product line that uses three-stage technology to enable efficient heating at very low outdoor temperatures. The existing test procedure accounts for two-capacity operation, but not three-capacity operation. Therefore, Hallowell has suggested an alternate test procedure to calculate the heating performance of its three-stage boosted compression products. As a condition of this waiver, Hallowell must test and rate its boosted compression heat pump products according to the alternate test procedure set forth in this notice.

DATES: This decision and order is effective February 5, 2010.

FOR FURTHER INFORMATION CONTACT: Dr. Michael G. Raymond, U.S. Department of Energy, Building Technologies Program, Mailstop EE-2J, 1000 Independence Avenue, SW., Washington, DC 20585-0121. Telephone: (202) 586-9611. E-mail: AS_Waiver_Requests@ee.doe.gov.

Francine Pinto, U.S. Department of Energy, Office of the General Counsel, Mail Stop GC-71, 1000 Independence Avenue, SW., Washington, DC 20585-0103. Telephone: (202) 586-7432. E-mail: Francine.Pinto@hq.doe.gov.

SUPPLEMENTARY INFORMATION: In accordance with Title 10 of the Code of Federal Regulations (10 CFR) 430.27(l), DOE gives notice of the issuance of its decision and order as set forth below. In this decision and order, DOE grants Hallowell a waiver from the applicable residential central air conditioner and heat pump test procedures at 10 CFR part 430 subpart B, appendix M, for certain basic models of its three-stage boosted compression heat pumps, provided that Hallowell tests and rates such products using the alternate test procedure described in this notice. Further, today's decision requires that Hallowell may not make any representations concerning the energy efficiency of these products unless such product has been tested consistent with the provisions and restrictions in the alternate test procedure set forth in the decision and order below, and such representations fairly disclose the results of such testing. (42 U.S.C. 6314(d)) Distributors, retailers, and private labelers are held to the same standard when making representations regarding the energy efficiency of these products. (42 U.S.C. 6293(c)).

Issued in Washington, DC, on January 29, 2010.
Cathy Zoi,
Assistant Secretary, Energy Efficiency and Renewable Energy.

Decision and Order

In the Matter of: Hallowell International (Hallowell) (Case No. CAC-022).

Background

Title III of the Energy Policy and Conservation Act sets forth a variety of provisions concerning energy efficiency. Part A of Title III provides for the “Energy Conservation Program for Consumer Products Other Than Automobiles.” (42 U.S.C. 6291-6309) Part A includes definitions, test procedures, labeling provisions, energy conservation standards, and the authority to require information and reports from manufacturers. Further, Part A authorizes the Secretary of Energy to prescribe test procedures that are reasonably designed to produce results that measure energy efficiency, energy use, or estimated annual operating costs, and that are not unduly burdensome to conduct. (42 U.S.C. 6293(b)(3)).

Today's notice involves residential products under Part A. Relevant to the current petition for waiver, the test procedure for residential central air conditioners and heat pumps is contained in 10 CFR part 430, subpart B, appendix M.

DOE's regulations allow a person to seek a waiver from the test procedure requirements for covered consumer products, when the petitioner's basic model contains one or more design characteristics that prevent testing according to the prescribed test procedure, or when they may evaluate the basic model in a manner so unrepresentative of its true energy consumption characteristics as to provide materially inaccurate comparative data. 10 CFR 430.27(a)(1). Petitioners must include in their petition any alternate test procedures known to the petitioner to evaluate the basic model in a manner representative of its energy consumption characteristics. 10 CFR 430.27(b)(1)(iii). The Assistant Secretary for Energy Efficiency and Renewable Energy (the Assistant Secretary) may grant a waiver subject to conditions, including adherence to alternate test procedures. 10 CFR 430.27(l). Waivers remain in effect pursuant to the provisions of 10 CFR 430.27(m).

The waiver process also allows any interested person who has submitted a petition for waiver to file an application for interim waiver of the applicable test procedure requirements. 10 CFR 430.27(a)(2). The Assistant Secretary will grant an interim waiver request if it is determined that the applicant will experience economic hardship if the interim waiver is denied, if it appears likely that the petition for waiver will be granted, and/or the Assistant Secretary determines that it would be desirable for public policy reasons to grant immediate relief pending a determination on the petition for waiver. 10 CFR 430.27(g).

On July 29, 2008, Hallowell filed a petition for waiver and an application for interim waiver from the test procedures applicable to residential central air conditioners and heat pumps, found at 10 CFR part 430, subpart B, appendix M. Hallowell requested the waiver for its residential boosted compression products that use three-speed compressor technology, stating that the existing test procedure is applicable only to products with one- and two-speed compressors. Hallowell included an alternate test procedure in its July 29, 2008, submittal, but DOE advised Hallowell that the alternate procedure was incomplete. On April 25, 2009, Hallowell submitted a revised petition and alternate test procedure. On May 29, 2009, Hallowell submitted a revised petition with additional evidence of financial hardship. On December 2, 2009, DOE granted Hallowell an interim waiver and published Hallowell's petition for waiver. 74 FR 63131. DOE received no comments on the Hallowell petition.

Assertions and Determinations

Hallowell's Petition for Waiver

Hallowell seeks a waiver from the DOE test procedures because its boosted compression heat pump systems contain design characteristics that prevent testing according to the current DOE test procedure. The DOE test procedure covers systems with a single speed, with two steps or stages of modulation, and with continuous modulation over a finite range through the incorporation of a variable-speed or digital compressor. Hallowell's product deviates from the anticipated form—a system whose performance falls between that of a two-capacity system and a conventional variable-capacity system—because the three-capacity capability is limited to heating mode operation. Moreover, the additional stage of heating capacity is used specifically at the lowest outdoor temperatures to maximize the total heating contributed by the heat pump, relative to the total heating supplied by the auxiliary heat source (usually electric resistance). Another unique feature of Hallowell's low-temperature heat pump system is that for any given outdoor temperature, only two stages of heating are permitted; one stage is always locked out. Hallowell's three-speed boosted compression heat pumps are also capable of efficient operation at much lower temperatures than two-speed heat pumps (Hallowell measured a coefficient of performance of 2.1 at −15 °F), making them potentially very desirable for heating in cold climates.

Rating Hallowell's boosted compression products requires modified calculation algorithms and testing at an additional, lower temperature to capture the effect on both capacity and power of the additional stage/level of heating operation. The building load assigned within the heating seasonal performance factor (HSPF) calculation requires evaluation based on the case where the high-stage compressor capacity for heating exceeds the high-stage compressor capacity for cooling. Finally, the test procedure must account for the control feature that limits the number of heating mode capacity levels to two for any given outdoor temperature. The Hallowell alternate test procedure is a logical extension of DOE's two-capacity test method to cover Hallowell's three-capacity compressor. The two (of three potential) active stages of heating capacity available for each bin temperature calculation are based on Hallowell's control logic. The HSPF algorithm follows the algorithm in the DOE test procedure used for two-capacity heat pumps.

In the DOE test procedure, heating mode tests are conducted at 62°F, 47°F, 35°F, and 17°F. This method does not collect enough operating characteristics to create an accurate trend, and does not consider the performance of 3-speed equipment at cold temperatures, so an additional test point at 0°F is added. The DOE test procedure also linearly interpolates to capture the effect of varying outdoor temperature. The Hallowell product uses a different system configuration for the high compressor capacity tests at 47°F and 17°F; therefore the algorithm used to calculate HSPF was modified to create a more accurate performance map.

DOE notes that the existing DOE test procedure accurately covers the 2 speed air conditioning performance of the Hallowell product because the Booster Compressor is not allowed to operate in cooling mode, effectively making the system a standard two speed air conditioner. Therefore, the waiver is applicable only to heating mode.

Consultations With Other Agencies

DOE consulted with the Federal Trade Commission (FTC) staff concerning the Hallowell Petition for Waiver. The FTC staff did not have any objections to the issuance of a waiver to Hallowell.

Conclusion

After careful consideration of all the materials submitted by Hallowell, the absence of any comments, and consultation with the FTC staff, it is ordered that:

(1) The “Petition for Waiver” filed by Hallowell International (Hallowell) (Case No. CAC-022) is hereby granted as set forth in the paragraphs below.

(2) Hallowell shall not be required to test or rate the following boosted compression models on the basis of the current test procedures contained in 10 CFR part 430, subpart B, appendix M, but shall be required to test and rate such products according to the alternate test procedure as set forth in paragraph (3) below:

ACADIA024, ACADIA036, ACADIA048, 36C35H, 42C46H, ACHP03642, ACHP02431

(3) Alternate Test Procedure

Add section 3.6.6 to address the heating mode tests conducted on units having a triple-capacity compressor.

3.6.6 Tests for a heat pump having a triple-capacity compressor. Test triple-capacity, northern heat pumps for the heating mode as follows:

a. Conduct one Maximum Temperature Test (H01), two High Temperature Tests (H12 and H11), two Frost Accumulation Tests (H22 and H21), three Low Temperature Tests (H31, H32, and H33), and one Minimum Temperature Test (H43). An alternative to conducting the H21 Frost Accumulation Test to determine Q̇hk=1 (35) and Ėhk=3 (35) is to use the following equations to approximate this capacity and electrical power:

In evaluating the above equations, determine the quantities Q̇hk=1 (47) and Ėhk=1 (47) from the H11 Test and evaluate them according to Section 3.7. Determine the quantities Q̇hk=1 (17) and Ėhk=1 (17) from the H31 Test and evaluate them according to Section 3.10. If the manufacturer conducts the H21 Test, the option of using the above default equations is not forfeited. Use the paired values of Q̇hk=1 (35) and Ėhk=1 (35) derived from conducting the H21 Frost Accumulation Test and evaluated as specified in section 3.9.1 or use the paired values calculated using the above default equations, whichever paired values contribute to a higher Region IV HSPF based on the DHRmin.

Conducting a Frost Accumulation Test (H23) with the heat pump operating at its booster capacity is optional. If this optional test is not conducted, determine Q̇hk=3 (35) and Ėhk=3 (35) using the following equations to approximate this capacity and electrical power:

Where,

Determine the quantities Q̇hk=2 (47) and Ėhk=2 (47)from the H12 Test and evaluate them according to Section 3.7. Determine the quantities Q̇hk=2 (35) and Ėhk=2 (35) from the H22 Test and evaluate them according to Section 3.9.1. Determine the quantities Q̇hk=2 (17) and Ėhk=2 (17) from the H32 Test, determine the quantities Q̇hk=3 (17) and Ėhk=3 (17) from the H33 Test, and determine the quantities Q̇hk=3 (2) and Ėhk=3 (2) from the H43 Test. Evaluate all six quantities according to Section 3.10. If the manufacturer conducts the H23 Test, the option of using the above default equations is not forfeited. Use the paired values of Q̇hk=3 (35) and Ėhk=3 (35) derived from conducting the H23 Frost Accumulation Test and calculated as specified in section 3.9.1 or use the paired values calculated using the above default equations, whichever paired values contribute to a higher Region IV HSPF based on the DHRmin.

Table A specifies test conditions for all thirteen tests.

Table A—Heating Mode Test Conditions for Units Having a Triple-Capacity Compressor
Test description | Air entering indoor unit temperature (°F): Dry bulb | Air entering indoor unit temperature (°F): Wet bulb | Air entering outdoor unit temperature (°F): Dry bulb | Air entering outdoor unit temperature (°F): Wet bulb | Compressor capacity | Booster | Heating air volume rate
H01 Test (required, steady) | 70 | 60(max) | 62 | 56.5 | Low | Off | Heating Minimum.¹
H12 Test (required, steady) | 70 | 60(max) | 47 | 43 | High | Off | Heating Full-Load.²
H1C2 Test (optional, cyclic) | 70 | 60(max) | 47 | 43 | High | Off | (³).
H11 Test (required) | 70 | 60(max) | 47 | 43 | Low | Off | Heating Minimum.¹
H1C1 Test (optional, cyclic) | 70 | 60(max) | 47 | 43 | Low | Off | (⁴).
H23 Test (optional, steady) | 70 | 60(max) | 35 | 33 | High | On | Heating Full-Load.²
H22 Test (required) | 70 | 60(max) | 35 | 33 | High | Off | Heating Full-Load.²
H21 Test(5 6) (required) | 70 | 60(max) | 35 | 33 | Low | Off | Heating Minimum.¹
H32 Test (required, steady) | 70 | 60(max) | 17 | 15 | High | On | Heating Full-Load.²
H3C3 Test (optional, cyclic) | 70 | 60(max) | 17 | 15 | High | On | (⁷).
H32 Test (required, steady) | 70 | 60(max) | 17 | 15 | High | Off | Heating Full-Load.²
H31 Test⁽⁵⁾ (required, steady) | 70 | 60(max) | 17 | 15 | Low | Off | Heating Minimum.¹
H43 Test (required, steady) | 70 | 60(max) | 0 | −2 | High | On | Heating Full-Load.²
¹ Defined in section 3.1.4.5.
² Defined in section 3.1.4.4.
³ Maintain the airflow nozzle(s) static pressure difference or velocity pressure during the ON period at the same pressure or velocity as measured during the H12 Test.
⁴ Maintain the airflow nozzle(s) static pressure difference or velocity pressure during the ON period at the same pressure or velocity as measured during the H11 Test.
⁵ Required only if the heat pump's performance when operating at low compressor capacity and outdoor temperatures less than 37 °F is needed to complete the section 4.2.6 HSPF calculations.
⁶ If table note #5 applies, the section 3.6.3 equations for Q̇hk=1 (35) and Ėhk=1 (17) may be used in lieu of conducting the H21 Test.
⁷ Maintain the airflow nozzle(s) static pressure difference or velocity pressure during the ON period at the same pressure or velocity measured during the H33 Test.

Section 4.2.3 of appendix M shall be revised to read as follows:

4.2.3. Additional steps for calculating the HSPF of a heat pump having a triple-capacity compressor. * * *

a. Evaluate the space heating capacity and electrical power consumption of the heat pump at outdoor temperature Tj and with a first stage call from the thermostat (k=1), and with a second stage call from the thermostat (k=2) using:

BILLING CODE 6450-01-P

BILLING CODE 6450-01-C

(4) Representations. Hallowell may make representations about the energy use of its boosted compression three-stage central air conditioners and heat pump products, for compliance, marketing, or other purposes, only to the extent that such products have been tested in accordance with the provisions outlined above, and such representations fairly disclose the results of such testing.

(5) This waiver shall remain in effect from the date of issuance of this order consistent with the provisions of 10 CFR 430.27(m).

(6) This waiver is conditioned upon the presumed validity of statements, representations, and documentary materials provided by the petitioner. This waiver may be revoked or modified at any time upon a determination that the factual basis underlying the petition for waiver is incorrect, or DOE determines that the results from the alternate test procedure are unrepresentative of the basic models' true energy consumption characteristics.

Issued in Washington, DC, on January 29, 2010.

Cathy Zoi,

Assistant Secretary, Energy Efficiency and Renewable Energy.

[FR Doc. 2010-2515 Filed 2-4-10; 8:45 am]

BILLING CODE 6450-01-P